DEPARTMENT OF THE INTERIOR

Bureau of Land Management

[NV-920-1330-GEOT-FI]

Classification; Salt Wells Known Geothermal Resources Area, NV

AGENCY: Bureau of Land Management, Interior.

ACTION: Classification of the Salt Wells Known Geothermal Resources Area, Nevada.

SUMMARY: This notice alerts the public that the Bureau of Land Management has expanded the size of the Salt Wells Known Geothermal Resources Area by 6,576.56 acres.

EFFECTIVE DATE: July 1, 2002.

SUPPLEMENTARY INFORMATION: Under the Secretary of the Interior's authority contained in Sec. 21(a) of the Geothermal Steam Act of 1970 (84 Stat. 1566, 1572; 30 U.S.C. 1020) we are expanding the boundaries of the Salt Wells Known Geothermal Resources Area by 6,576.56 acres to include:

Mt. Diablo Meridian, Nevada

T. 16 N., R. 30 E.,

Secs. 1, 2, 3.

T. 16 N., R. 31 E.,

Sec. 6.

T. 17 N., R. 30 E.,

Secs. 22, 27, 34.

T. 17 N., R. 31 E.,

Secs. 19, 30, 31.

The description of the entire Salt Wells Known Geothermal Area is now as shown below:

Nevada—Salt Wells Known Geothermal Resources Area

Mt. Diablo Meridian, Nevada

T. 16 N., R. 30 E.,

Secs. 1, 2, 3.

T. 16 N., R. 31 E.,

Sec. 6.

T. 17 N., R. 30 E.,

Secs. 22-27, 34-36.

T. 17 N., R. 31 E.,

Secs. 19, 30, 31.

The above area aggregates 10,410.56 acres, more or less.

Dated: August 29, 2002.
Jean Rivers-Council,
Acting State Director, Nevada.

[FR Doc. 02-24296 Filed 9-23-02; 8:45 am]

BILLING CODE 4310-HC-P